DEPARTMENT OF COMMERCE

National Oceanic and Atmospheric Administration

RIN 0648-XM55

Marine Mammals; File No. 782-1708

AGENCY: National Marine Fisheries Service (NMFS), National Oceanic and Atmospheric Administration (NOAA), Commerce.

ACTION: Notice; issuance of permit amendment.

SUMMARY: Notice is hereby given that the NMFS National Marine Mammal Laboratory, Seattle, WA has been issued a minor amendment to Scientific Research Permit No. 782-1708-04.

ADDRESSES: The amendment and related documents are available for review upon written request or by appointment in the following office:

Permits, Conservation and Education Division, Office of Protected Resources, NMFS, 1315 East-West Highway, Room 13705, Silver Spring, MD 20910; phone (301)713-2289; fax (301)427-2521.

FOR FURTHER INFORMATION CONTACT: Tammy Adams or Kate Swails, (301)713-2289.

SUPPLEMENTARY INFORMATION: The requested amendment has been granted under the authority of the Marine Mammal Protection Act of 1972, as amended (16 U.S.C. 1361 et seq.) and the regulations governing the taking and importing of marine mammals (50 CFR part 216).

The original permit (No. 782-1708), issued on August 23, 2003 (68 FR 53967) and valid through December 31, 2008, authorized research on northern fur seals (Callorhinus ursinus) of the San Miguel Islands Stock at San Miguel Island, California, and of the Eastern North Pacific Stock at Bogoslof Island and the Pribilof Islands in Alaska. The permit was subsequently amended four times to modify methods and take numbers. The minor amendment (No. 782-1708-05) extends the duration of the permit through December 31, 2009, and does not change any other terms or conditions of the permit.

Dated: January 2, 2009.
P. Michael Payne,
Chief, Permits, Conservation and Education Division, Office of Protected Resources, National Marine Fisheries Service.

[FR Doc. E9-124 Filed 1-7-09; 8:45 am]

BILLING CODE 3510-22-S